DEPARTMENT OF COMMERCE

Economic Development Administration

[Docket No.: 0808071081-81082-01]

Solicitation of Proposals and Applications for the FY 2008 Supplemental Appropriations Disaster Relief Opportunity Pursuant to Act of June 30, 2008, Public Law 110-252, 122 Stat. 2323 (2008)

AGENCY: Economic Development Administration (EDA), Department of Commerce.

ACTION: Notice and request for applications.

SUMMARY: Pursuant to section 703 of the Public Works and Economic Development Act of 1965, as amended (42 U.S.C. 3233), EDA announces general policies and application procedures for the FY 2008 Supplemental Appropriations Disaster Relief Opportunity. This investment assistance will help devise long-term economic redevelopment strategies and carry out implementation activities and public works projects to address economic development challenges in regions impacted by the Midwest storms and floods or other recent natural disasters.

DATES: Proposals (also known as pre-applications) are accepted on a continuing basis and applications are invited and processed as received. Generally, up to two months are required for EDA to reach a final decision after receipt of a complete application that meets all requirements. Proposals or applications (as appropriate) received after the date of publication of this notice will be processed in accordance with the requirements set forth herein until superseded by the terms of a federal funding opportunity (FFO) announcement posted on http://www.grants.gov and publication of the related notice in the Federal Register.

Pre-Application and Application Submission Requirements: Proponents are advised to read carefully the instructions contained in the complete FFO announcement for this request for proposals and applications, and in the Pre-Application for Investment Assistance (Form ED-900P) and Application for Investment Assistance (Form ED-900A). Please note that the requirements for the pre-application are different from the requirements for the application. It is the sole responsibility of the proponent to ensure that the pre-application or application (as appropriate) is complete and received by EDA. The content of the pre-application or the application (as appropriate) is the same for paper submissions as it is for electronic submissions. EDA will not accept facsimile transmissions of pre-applications or applications.

For projects under this notice and request for proposals and applications, a pre-application normally is required. However, given the exigent circumstances that exist as a result of the Midwest storms and floods and other recent natural disasters, the EDA regional office may in some circumstances waive the pre-application requirement for applicants in those affected regions and allow those applicants to submit an application only (no pre-application). Therefore, please contact the appropriate EDA regional office listed below for instructions as to whether you need to complete a pre-application or an application. The regional office staff will provide application instructions.

All relevant forms may be accessed and downloaded at the following Web sites: (i) Forms ED-900P and ED-900A at http://www.eda.gov/InvestmentsGrants/Application.xml; (ii) Standard Forms (SF) at either www.grants.gov or at http://www.eda.gov/InvestmentsGrants/Application.xml; and (iii) Department of Commerce (CD) forms at http://ocio.os.doc.gov/ITPolicyandPrograms/Electronic_Forms/index.htm.

Proponents are advised that in October 2008, EDA anticipates introducing a single-step application process that will obviate use of the current Forms ED-900P and ED-900A. At that time, EDA will publish new application procedures in line with the new single-step application in the Federal Register and will post information about those procedures at http://www.eda.gov.

Addresses and Telephone Numbers for EDA's Regional Offices: If you have a project that will be located in one of the disaster-impacted regions declared under the Robert T. Stafford Disaster Relief and Emergency Assistance Act (42 U.S.C. 5121 et seq.) (Stafford Act), please contact the appropriate regional office listed below.

Economic Development Administration, Atlanta Regional Office, 401 West Peachtree Street, NW., Suite 1820, Atlanta, Georgia 30308, Telephone: (404) 730-3002, Fax: (404) 730-3025, Serves: Alabama, Florida, Georgia, Kentucky, Mississippi, North Carolina, South Carolina and Tennessee.

Economic Development Administration, Austin Regional Office, 504 Lavaca Street, Suite 1100, Austin, Texas 78701, Telephone: (512) 381-8144, Fax: (512) 381-8177, Serves: Arkansas, Louisiana, New Mexico, Oklahoma and Texas.

Economic Development Administration, Chicago Regional Office, 111 North Canal Street, Suite 855, Chicago, Illinois 60606, Telephone: (312) 353-7706, Fax: (312) 353-8575, Serves: Illinois, Indiana, Michigan, Minnesota, Ohio, Wisconsin and Muscatine and Scott counties, Iowa.

Economic Development Administration, Denver Regional Office, 410 17th Street, Suite 250, Denver, Colorado 80202, Telephone: (303) 844-4714, Fax: (303) 844-3968, Serves: Colorado, Iowa (excluding Muscatine and Scott counties), Kansas, Missouri, Montana, Nebraska, North Dakota, South Dakota, Utah and Wyoming.

Economic Development Administration, Philadelphia Regional Office, Curtis Center, 601 Walnut Street, Suite 140 South, Philadelphia, Pennsylvania 19106, Telephone: (215) 597-4603, Fax: (215) 597-1063, Serves: Connecticut, Delaware, District of Columbia, Maine, Maryland, Massachusetts, New Hampshire, New Jersey, New York, Pennsylvania, Puerto Rico, Rhode Island, Vermont, U.S. Virgin Islands, Virginia and West Virginia.

Economic Development Administration, Seattle Regional Office, Jackson Federal Building, Room 1890, 915 Second Avenue, Seattle, Washington 98174, Telephone: (206) 220-7660, Fax: (206) 220-7669, Serves: Alaska, American Samoa, Arizona, California, Guam, Hawaii, Idaho, Marshall Islands, Micronesia, Nevada, Northern Mariana Islands, Oregon, Republic of Palau and Washington.

Application Submission Formats: Pre-applications or applications may be submitted either (i) in paper (hardcopy) format at the applicable regional office address provided below; or (ii) electronically in accordance with the procedures provided on www.grants.gov.

Paper Submissions: Under this competitive solicitation, a proponent may submit a completed pre-application or application (as appropriate) to the applicable regional office listed above under “Addresses and Telephone Numbers for EDA's Regional Offices.” A proponent advised by the regional office to complete a pre-application should download and print copies of the Form ED-900P and the Form SF-424 (Application for Federal Assistance) at http://www.eda.gov/InvestmentsGrants/Application.xml, complete Parts I, II and III of Form ED-900P and Form SF-424, and attach the project narrative statement requested in section IV.B.1. of the FFO announcement. The narrative statement should be clearly labeled to identify each addressed topic listed in section IV.B.1. of the FFO announcement. A proponent advised to complete an application should follow the instructions provided by the regional office at the time it is so advised.

Proponents choosing this option must submit one (1) original and two (2) copies of the completed pre-application or application (as appropriate) via postal mail, shipped overnight or hand-delivered to the applicable regional office, unless otherwise directed by EDA staff. Department of Commerce mail security measures may delay receipt of United States Postal Service mail for up to two weeks. Therefore, proponents who wish to submit paper applications are advised to use guaranteed overnight delivery services.

Electronic Submissions: Proponents may submit pre-applications or applications (as appropriate) electronically in accordance with the instructions provided by the EDA regional office and the instructions provided at http://www.grants.gov/applicants/apply_for_grants.jsp. The preferred file format for electronic attachments (e.g., the project narrative statement and exhibits to Form ED-900P) is portable document format (PDF); however, EDA will accept electronic files in Microsoft Word, WordPerfect, Lotus or Excel formats.

Applicants should access the following link for assistance in navigating www.grants.gov and for a list of useful resources: http://www.grants.gov/applicants/applicant_help.jsp. If you do not find an answer to your question under “Applicant FAQS” at http://www.grants.gov/applicants/applicant_faqs.jsp, try consulting the Applicant User Guide. If you still cannot find an answer to your question, contact www.grants.gov via e-mail at support@grants.gov or telephone at 1-800-518-4726. The hours of operation for www.grants.gov are Monday-Friday, 7 a.m. to 9 p.m. (ET) (except for Federal holidays).

FOR FURTHER INFORMATION CONTACT: For additional information or for a paper copy of the complete FFO announcement, contact the appropriate EDA regional office listed above. EDA's Internet Web site at www.eda.gov also contains additional information on EDA and its programs.

SUPPLEMENTARY INFORMATION: Background Information: With funding made available through the Supplemental Appropriations Disaster Relief Opportunity, EDA intends to award investments in regions experiencing severe economic distress as a result of flooding, storms or tornadoes such as those experienced in the Midwest, or other recent natural disasters. Pursuant to this notice, EDA solicits proposals and applications for Economic Adjustment Assistance investments under the Public Works and Economic Development Act of 1965, as amended (PWEDA) (42 U.S.C. 3121 et seq.). Through the Economic Adjustment Assistance program (CFDA No. 11.307), selected applicants will utilize EDA's flexible set of program tools to develop and implement on a regional basis long-term economic redevelopment strategies for the recently disaster-impacted regions in the United States.

The Economic Adjustment Assistance program can provide a wide range of technical, planning and infrastructure assistance in regions experiencing adverse economic changes that may occur suddenly or over time. This program is designed to respond adaptively to pressing economic recovery issues, and is well suited to help address challenges such as those faced by the regions affected by the Midwest storms and floods and other recent natural disasters. Assistance can support development of a strategy (through a “strategy grant”) to alleviate economic dislocation caused by the disaster or support project implementation (through an “implementation grant”), such as funding improvements for infrastructure.

EDA recognizes that urgent infrastructure rebuilding needs exist throughout the regions affected by recent natural disasters. In addition, tensions often arise in the wake of a disaster between advocates of immediate infrastructure rebuilding and advocates of rebuilding infrastructure pursuant to a long-term redevelopment strategy. In EDA's experience with post-disaster recovery, the most effective long-term infrastructure rebuilding efforts are based on a long-term development or redevelopment strategy, established either before or after the disaster. For this reason, EDA encourages the submission of applications geared to the development and implementation of long-term, regionally-based, collaborative economic redevelopment strategies. In addition, EDA will regard applications for infrastructure that are substantively supported by such a strategy as more competitive and worthy of funding than applications for infrastructure that are not so supported. Applications for rebuilding damaged infrastructure that are not demonstrably supported by a long-term plan will not be viewed as competitive. EDA will evaluate and select applications according to the information set out below under “Evaluation Criteria.”

This notice and request for proposals and applications is pursuant to Act of June 30, 2008, Public Law 110-252, 122 Stat. 2323 (2008). Please access the separate FFO announcement posted at www.grants.gov on February 21, 2008 for information regarding funding priorities, application and selection processes, time frames and evaluation criteria for EDA's regular Economic Adjustment Assistance and Public Works investments, which are funded under the FY 2008 Consolidated Appropriations Act (Pub. L. 110-161, 121 Stat. 1844 (2007)). Additional information may be found on EDA's Internet Web site at http://www.eda.gov. EDA will evaluate and select applications according to the information set forth below under “Evaluation Criteria” and “Funding Priorities” and in section V. of the FFO announcement.

Electronic Access: The complete FFO announcement for the FY 2008 Supplemental Appropriations Disaster Relief Opportunity is available at www.grants.gov and at http://www.eda.gov.

Funding Availability: Under the Act of June 30, 2008, Public Law 110-252, 122 Stat. 2323 (2008), EDA received $100,000,000 as a supplemental appropriation for disaster assistance (Disaster Appropriation). Although the impetus for this appropriation was the storms and flooding experienced this year in the Midwest region of the United States, the law establishes that the funds must be used in regions covered by a major disaster declaration under the Stafford Act, “as a result of recent natural disasters.” For purposes of this competitive solicitation, EDA interprets “recent” to mean disaster declarations starting January 1, 2008 for incident periods occurring through June 30, 2008, the date of enactment of the Disaster Appropriation.

As set out below, EDA will allocate funds for the Supplemental Appropriations Disaster Relief Opportunity from the Disaster Appropriation among its six regional offices, located in Atlanta, Austin, Chicago, Denver, Philadelphia and Seattle. See also section II.B. of the FFO announcement. The funds are provided for the necessary expenses related to the following three activities: (i) Disaster relief; (ii) long-term recovery; and (iii) restoration of infrastructure.

Approximate Allocation per Regional Office:

Atlanta Regional Office—$8.8

Austin Regional Office—$13.8

Chicago Regional Office—$21.4

Denver Regional Office—$52.6

Philadelphia Regional Office—$2.3

Seattle Regional Office—$1.0

At a later date, EDA may adjust the allocation to the regional offices, based on its experience in administering the supplemental appropriation to ensure funds are used to maximum effect, or to adjust to unforeseen changes in recovery efforts.

Statutory Authority: The statutory authority for the Economic Adjustment Assistance program is section 209 of PWEDA (42 U.S.C. 3149). Unless otherwise provided in this notice or in the FFO announcement, applicant eligibility, program objectives and priorities, application procedures, evaluation criteria, selection procedures, and other requirements for all programs are set forth in EDA's regulations (codified at 13 CFR chapter III). EDA's regulations and PWEDA are available at http://www.eda.gov/InvestmentsGrants/Lawsreg.xml.

Catalog of Federal Domestic Assistance (CFDA) Number: 11.307, Economic Adjustment Assistance.

Applicant Eligibility: Pursuant to PWEDA, eligible applicants for and eligible recipients of EDA investment assistance under this announcement include a(n): (i) District Organization; (ii) Indian Tribe or a consortium of Indian Tribes; (iii) State, city or other political subdivision of a State, including a special purpose unit of a State or local government engaged in economic or infrastructure development activities, or a consortium of political subdivisions; (iv) institution of higher education or a consortium of institutions of higher education; or (v) public or private non-profit organization or association acting in cooperation with officials of a political subdivision of a State. See section 3 of PWEDA (42 U.S.C. 3122) and 13 CFR 300.3.

EDA is not authorized to provide grants directly to individuals or to for-profit entities seeking to start or expand a private business. Such requests may be referred to State or local agencies, or to non-profit economic development organizations.

For the Supplemental Appropriations Disaster Relief Opportunity, EDA will consider proposals or applications (as appropriate) submitted by eligible applicants located in or acting on behalf of the disaster-affected regions, including one or more institutions of higher education; one or more of the States, cities or other units of local government; and economic development organizations, including but not limited to regional multi-jurisdictional District Organizations and public or private non-profit organizations working in cooperation with private for-profit organizations, local businesses and industry leaders.

Economic Distress Criteria: Pursuant to the Disaster Appropriation, regional eligibility is predicated upon the Presidential declarations of disaster areas and/or disaster declarations issued by the Federal Emergency Management Agency (FEMA), as listed in section III.B. of the FFO announcement.

Cost Sharing Requirement: As stated above, the disaster declarations issued by FEMA provide EDA with the requisite determination of eligibility under section 703 of PWEDA (42 U.S.C. 3233). Similar to the cost-sharing required under that Act, EDA expects to fund seventy-five (75) percent of the eligible cost of such assistance. The remaining twenty-five (25) percent must be borne by the recipient or provided to the recipient by a third-party as a contribution for the purposes of and subject to the terms of the award. In accordance with statutory authority under section 703 of PWEDA (42 U.S.C. 3233), EDA may, in certain instances, increase the investment rate up to a maximum of one hundred (100) percent. EDA will be particularly inclined to fund the regional strategy grants (as mentioned under “Background Information” above) at an investment rate of one hundred (100) percent. In determining whether to increase the federal share above seventy-five (75) percent, EDA will consider whether the applicant has exhausted its effective taxing or borrowing capacity, or other indicia of dire need. Therefore, the applicant must include a narrative that fully describes and defines the “region” in which the proposed project will be located and is responsible for demonstrating to EDA, by providing statistics and other appropriate information, the nature and level of economic distress in the region. See section IV.B.1. of the FFO announcement for information regarding the project narrative.

While cash contributions are preferred, in-kind contributions, consisting of contributions of space, equipment, or services, or forgiveness or assumptions of debt, may provide the required non-federal share of the total project cost. See section 204(b) of PWEDA (42 U.S.C. 3144). EDA will fairly evaluate all in-kind contributions, which must be eligible project costs and meet applicable federal cost principles and uniform administrative requirements. Funds from other federal financial assistance awards are considered matching share funds only if authorized by statute, which may be determined by EDA's reasonable interpretation of the statute. See 13 CFR 300.3. The applicant must show that the matching share is committed to the project for the project period, will be available as needed and is not conditioned or encumbered in any way that precludes its use consistent with the requirements of EDA investment assistance. See 13 CFR 301.5.

Intergovernmental Review: Proposals or applications for assistance under EDA's programs are subject to the State review requirements imposed by Executive Order 12372, “Intergovernmental Review of Federal Programs.”

Evaluation and Selection Procedures: EDA's six regional offices conduct all pre-application and application review for EDA's Economic Adjustment Assistance investments. Each pre-application or application (as appropriate) is circulated by a project officer within the applicable EDA regional office for review and comments. When the necessary input and information are obtained, the pre-application or application (as appropriate) is considered by the regional office's investment review committee (IRC), which is comprised of regional office staff. The IRC discusses the pre-application or application (as appropriate) and evaluates it (i) using the general evaluation criteria set forth in 13 CFR 301.8; and (ii) to determine if it meets the program-specific award and application requirements provided in 13 CFR 307.2 and 307.4 for Economic Adjustment Assistance. The general evaluation criteria also are provided below under “Evaluation Criteria.”

In the case of a pre-application, after completing its evaluation, the IRC recommends to the Selecting Official, who is the Regional Director, whether an application should be invited, documenting its recommendation in meeting minutes or in the investment summary or the project proposal summary and evaluation form. The Selecting Official will consider the evaluations provided by the IRC and the degree to which one or more of the funding priorities provided below are included, in making the decision as to which proponents should be invited to submit formal applications for investment assistance.

If a proponent is selected to submit a full application, the appropriate regional office will provide application materials and guidance in completing them. The proponent generally will have thirty (30) days to submit the completed application materials to the regional office. EDA staff will work with the proponent to resolve application deficiencies. EDA will notify the applicant if EDA accepts a completed application, and it is forwarded for final review and processing in accordance with EDA and Department of Commerce procedures.

Unsuccessful proponents will be notified by postal mail that their proposals were not recommended for funding. Unsuccessful proposals will be retained in the EDA regional office in accordance with EDA's record retention schedule.

Evaluation Criteria: EDA will select investment proposals or applications (as appropriate) competitively based on the investment policy guidelines and funding priority considerations listed below. EDA will evaluate the extent to which a project embodies the maximum number of investment policy guidelines and funding priorities possible and strongly exemplifies at least one of each. All investment proposals or applications (as appropriate) will be competitively evaluated primarily on their ability to satisfy one (1) or more of the following investment policy guidelines, each of which are of equivalent weight and also are set forth in 13 CFR 301.8.

1. Be market-based and results driven. An EDA investment will capitalize on a region's competitive strengths and will positively move a regional economic indicator measured on EDA's Balanced Scorecard, such as: An increased number of higher-skill, higher-wage jobs; increased tax revenue; or increased private sector investment.

2. Have strong organizational leadership. An EDA investment will have strong leadership, relevant project management experience, and a significant commitment of human resources talent to ensure a project's successful execution.

3. Advance productivity, innovation and entrepreneurship. An EDA investment will embrace the principles of entrepreneurship, enhance regional industry clusters, and leverage and link technology innovators and local universities to the private sector to create the conditions for greater productivity, innovation, and job creation.

4. Look beyond the immediate economic horizon, anticipate economic changes, and diversify the local and regional economy. An EDA investment will be part of an overarching, long-term comprehensive economic development strategy that enhances a region's success in achieving a rising standard of living by supporting existing industry clusters, developing emerging new clusters, or attracting new regional economic drivers.

5. Demonstrate a high degree of local commitment by exhibiting:

• High levels of local government or non-profit matching funds and private sector leverage;

• Clear and unified leadership and support by local elected officials; and

• Strong cooperation between the business sector, relevant regional partners and local, State and Federal governments.

Funding Priorities: Although the Stafford Act declarations serve as a finding of regional economic distress for purposes of eligibility under this competitive solicitation, EDA will give priority to projects that will render the maximum amount of economic revitalization based on satisfaction of one or more of the following core criteria (investment proposals or applications that meet more than one core criterion will be given more favorable consideration):

1. Investments in support of long-term, coordinated and collaborative regional economic development approaches:

• Establish comprehensive regional economic development strategies that identify promising opportunities for long-term economic growth.

• Exhibit demonstrable, committed multi-jurisdictional support from leaders across all sectors:

i. Public (e.g., mayors, city councils, county executives, senior state leadership);

ii. Institutional (e.g., institutions of higher learning);

iii. Non-profit (e.g., chambers of commerce, development organizations); and

iv. Private (e.g., leading regional businesses, significant regional industry associations).

• Generate quantifiable positive economic outcomes.

2. Investments that support innovation and competitiveness:

• Develop and enhance the functioning and competitiveness of leading and emerging industry clusters in an economic region.

• Advance technology transfer from research institutions to the commercial marketplace.

• Bolster critical infrastructure (e.g., transportation, communications, specialized training) to prepare economic regions to compete in the world-wide marketplace.

3. Investments that encourage entrepreneurship:

• Cultivate a favorable entrepreneurial environment consistent with regional strategies.

• Enable economic regions to identify innovative opportunities among growth-oriented small- and medium-size enterprises.

• Promote community and faith-based entrepreneurship programs aimed at improving economic performance in an economic region.

4. Support strategies that link regional economies with the global marketplace:

• Enable businesses and local governments to understand that ninety-five (95) percent of our potential customers do not live in the United States.

• Enable businesses, local governments and key institutions (e.g., institutions of higher education) to understand and take advantage of the numerous free trade agreements.

• Enable economic development professionals to develop and implement strategies that reflect the competitive environment of the 21st Century global marketplace.

The Department of Commerce Pre-Award Notification Requirements for Grants and Cooperative Agreements: The administrative and national policy requirements for all Department of Commerce awards, contained in the Department of Commerce Pre-Award Notification Requirements for Grants and Cooperative Agreements, published in the Federal Register on February 11, 2008 (73 FR 7696), are applicable to this competitive solicitation.

Paperwork Reduction Act: This document contains collection-of-information requirements subject to the Paperwork Reduction Act (PRA). The use of Forms ED-900P (Pre-Application for Investment Assistance) and ED-900A (Application for Investment Assistance) has been approved by the Office of Management and Budget (OMB) under the control number 0610-0094. The use of Form SF-424 (Application for Financial Assistance) has been approved under OMB control number 4040-0004. Notwithstanding any other provision of law, no person is required to respond to, nor shall any person be subject to a penalty for failure to comply with, a collection of information subject to the requirements of the PRA unless that collection of information displays a currently valid OMB control number.

Executive Order 12866 (Regulatory Planning and Review): This notice has been determined to be not significant for purposes of Executive Order 12866.

Executive Order 13132 (Federalism): It has been determined that this notice does not contain policies with Federalism implications as that term is defined in Executive Order 13132.

Administrative Procedure Act/Regulatory Flexibility Act: Prior notice and an opportunity for public comments are not required by the Administrative Procedure Act or any other law for rules concerning grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: August 8, 2008.
Otto Barry Bird,
Chief Counsel, Economic Development Administration.

[FR Doc. E8-18794 Filed 8-13-08; 8:45 am]

BILLING CODE 3510-24-P